ENVIRONMENTAL PROTECTION AGENCY

[EPA-HQ-OAR-2006-0881; FRL-8240-5]

Proposed Approvals of the Central Characterization Project's Remote-Handled Waste Characterization Programs at Idaho National Laboratory and Argonne National Laboratory

AGENCY: Environmental Protection Agency.

ACTION: Notice of availability; opening of public comment period.

SUMMARY: The Environmental Protection Agency (EPA or we) is announcing the availability of, and soliciting public comments for 45 days on, the proposed approvals of the radioactive, remote-handled (RH), transuranic (TRU) waste characterization programs implemented by the Central Characterization Project (CCP) at Idaho National Laboratory (INL) and Argonne National Laboratory (ANL). This waste is intended for disposal at the Waste Isolation Pilot Plant (WIPP) in New Mexico. These are the first proposed approvals for the characterization of RH waste.

In accordance with the WIPP Compliance Criteria, EPA evaluated the characterization of RH TRU debris waste from INL-CCP and ANL-CCP during inspections conducted the weeks of June 12, 2006, and September 11, 2006, respectively. Using the systems and processes developed as part of the U.S. Department of Energy's (DOE's) Carlsbad Field Office (CBFO) program to characterize RH TRU waste, EPA verified whether DOE could adequately characterize RH TRU waste consistent with the Compliance Criteria. The results of EPA's evaluations of the INL-CCP and ANL-CCP programs and their proposed approvals are described in the Agency's inspection reports, which are available for review in the public dockets listed in ADDRESSES. We will consider public comments received on or before the due date mentioned in DATES.

This notice summarizes the waste characterization processes evaluated by EPA and EPA's proposed approvals. As required by the 40 CFR 194.8, at the end of a 45-day comment period EPA will evaluate public comments received, and if appropriate, finalize the reports responding to the relevant public comments, and issue final reports and approval letters to DOE.

DATES: Comments must be received on or before December 26, 2006.

ADDRESSES: Submit your comments, identified by Docket ID No. EPA-HQ-OAR-2006-0881, by one of the following methods:

• http://www.regulations.gov: Follow the on-line instructions for submitting comments.

• E-mail: To a-and-r-docket@epa.gov.

• Fax: 202-566-1741.

• Mail: Air and Radiation Docket and Information Center, Environmental Protection Agency, Mailcode: 6102T, 1200 Pennsylvania Ave., NW., Washington, DC 20460.

Instructions: Direct your comments to Attn: Docket ID No. EPA-HQ-OAR-2006-0881. The Agency's policy is that all comments received will be included in the public docket without change and may be made available online at http://www.regulations.gov, including any personal information provided, unless the comment includes information claimed to be Confidential Business Information (CBI) or other information whose disclosure is restricted by statute. Do not submit information that you consider to be CBI or otherwise protected through http://www.regulations.gov or e-mail. The http://www.regulations.gov Web site is an “anonymous access” system, which means EPA will not know your identity or contact information unless you provide it in the body of your comment. If you send an e-mail comment directly to EPA without going through http://www.regulations.gov your e-mail address will be automatically captured and included as part of the comment that is placed in the public docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses. For additional information about EPA's public docket visit the EPA Docket Center homepage at http://www.epa.gov/epahome/dockets.htm.

Docket: All documents in the docket are listed in the http://www.regulations.gov index. Although listed in the index, some information is not publicly available, e.g., CBI or other information whose disclosure is restricted by statute. Certain other material, such as copyrighted material, will be publicly available only in hard copy. Publicly available docket materials are available electronically at http://www.regulations.gov.

As of September 22nd, 2006, the EPA Docket Center (EPA/DC) Public Reading Room will be temporarily inaccessible to the public until November 6th, 2006, due to construction. Public access to docket materials will still be provided. We strongly encourage you to visit the EPA Dockets Web site frequently (http://www.epa.gov/epahome/dockets.htm) in order to receive the latest status concerning the Public Reading Room and public access to docket materials.

If you wish to obtain materials from a docket in the EPA/DC, please go first to Regulations.gov (http://www.regulations.gov) and obtain electronic copies. If the materials are listed in the docket index but the documents themselves are not available in Regulations.gov, please call (202) 566-1744 or e-mail the applicable Program Office Docket.

EPA Docket Center operations will still continue during this period. In addition to electronic access through regulations.gov, public inspection of docket materials will be available by appointment during this period. Appointments may be made by calling (202) 566-1744 or by e-mailing the appropriate Docket Office.

If you wish to hand deliver comments during this period, you may drop them off between the hours of 8:30 a.m. and 4:30 p.m. eastern standard time (EST), Monday through Friday, excluding Federal holidays at the EPA Headquarters, Room 6146F in the EPA West Building located at 1301 Constitution Avenue, NW., Washington, DC.

EPA visitors are required to show photographic identification and sign the EPA visitor log. After processing through the X-ray and magnetometer machines, visitors will be given an EPA/DC badge that must be visible at all times, and be escorted to Room 6146F to drop off comments.

If you have any other questions concerning the temporary closing of the EPA/DC Public Reading Room, you may call (202) 566-1744 between the hours of 8:30 a.m. and 4:30 p.m. eastern standard time.

These documents are also available for review in hard-copy form at the following three EPA WIPP informational docket locations in New Mexico: In Carlsbad at the Municipal Library, Hours: Monday-Thursday, 10 a.m.-9 p.m., Friday-Saturday, 10 a.m.-6 p.m., and Sunday, 1 p.m.-5 p.m., phone number: 505-885-0731; in Albuquerque at the Government Publications Department, Zimmerman Library, University of New Mexico, Hours: Vary by semester, phone number: 505-277-2003; and in Santa Fe at the New Mexico State Library, Hours: Monday-Friday, 9 a.m.-5 p.m., phone number: 505-476-9700. As provided in EPA's regulations at 40 CFR Part 2, and in accordance with normal EPA docket procedures, if copies of any docket materials are requested, a reasonable fee may be charged for photocopying.

FOR FURTHER INFORMATION CONTACT: Rajani Joglekar or Ed Feltcorn, Radiation Protection Division, Center for Federal Regulations, Mail Code 6608J, U.S. Environmental Protection Agency, 1200 Pennsylvania Avenue, Washington, DC 20460; telephone number: 202-343-9601; fax number: 202-343-2305; e-mail address: joglekar.rajani@epa.gov or feltcorn.ed@epa.gov.

SUPPLEMENTARY INFORMATION:

I. General Information

A. What Should I Consider as I Prepare My Comments for EPA?

1. Submitting CBI. Do not submit this information to EPA through http://www.regulations.gov or e-mail. Clearly mark the part or all of the information that you claim to be CBI. For CBI information in a disk or CD ROM that you mail to EPA, mark the outside of the disk or CD ROM as CBI and then identify electronically within the disk or CD ROM the specific information that is claimed as CBI. In addition to one complete version of the comment that includes information claimed as CBI, a copy of the comment that does not contain the information claimed as CBI must be submitted for inclusion in the public docket. Information so marked will not be disclosed except in accordance with procedures set forth in 40 CFR part 2.

2. Tips for Preparing Your Comments. When submitting comments, remember to:

• Identify the rulemaking by docket number and other identifying information (subject heading, Federal Register date and page number).

• Follow directions—The agency may ask you to respond to specific questions or organize comments by referencing a Code of Federal Regulations (CFR) part or section number.

• Explain why you agree or disagree; suggest alternatives and substitute language for your requested changes.

• Describe any assumptions and provide any technical information and/or data that you used.

• If you estimate potential costs or burdens, explain how you arrived at your estimate in sufficient detail to allow for it to be reproduced.

• Provide specific examples to illustrate your concerns, and suggest alternatives.

• Explain your views as clearly as possible, avoiding the use of profanity or personal threats.

• Make sure to submit your comments by the comment period deadline identified.

II. Background

DOE is developing the WIPP, near Carlsbad in southeastern New Mexico, as a deep geologic repository for disposal of TRU radioactive waste. As defined by the WIPP Land Withdrawal Act (LWA) of 1992 (Pub. L. 102-579), as amended (Pub. L. 104-201), TRU waste consists of materials that have atomic numbers greater than 92 (with half-lives greater than twenty years), in concentrations greater than 100 nanocuries of alpha-emitting TRU isotopes per gram of waste. Much of the existing TRU waste consists of items contaminated during the production of nuclear weapons, such as rags, equipment, tools, and sludges.

TRU waste is itself divided into two categories, based on its level of radioactivity. Contact-handled (CH) TRU waste accounts for about 97 percent of the volume of TRU waste currently destined for the WIPP. It is packaged in 55-gallon metal drums or in metal boxes and can be handled under controlled conditions without any shielding beyond the container itself. The maximum radiation dose at the surface of a CH TRU waste container is 200 millirems per hour. CH waste primarily emits alpha particles that are easily shielded by a sheet of paper or the outer layer of a person's skin.

Remote-handled (RH) TRU waste emits more radiation than CH TRU waste and must therefore be both handled and transported in shielded casks. Surface radiation levels of unshielded containers of remote-handled transuranic waste exceed 200 millirems per hour. RH waste primarily emits gamma radiation, which is very penetrating and requires concrete, lead, or steel to block it.

On May 13, 1998, EPA announced its final compliance certification decision to the Secretary of Energy (published May 18, 1998, 63 FR 27354). This decision stated that the WIPP will comply with EPA's radioactive waste disposal regulations at 40 CFR Part 191, Subparts B and C.

The final WIPP certification decision includes conditions that (1) Prohibit shipment of TRU waste for disposal at WIPP from any site other than the Los Alamos National Laboratories (LANL) until the EPA determines that the site has established and executed a quality assurance program, in accordance with § 194.22(a)(2)(i), 194.24(c)(3), and 194.24(c)(5) for waste characterization activities and assumptions (Condition 2 of Appendix A to 40 CFR Part 194); and (2) (with the exception of specific, limited waste streams and equipment at LANL) prohibit shipment of TRU waste for disposal at WIPP (from LANL or any other site) until EPA has approved the procedures developed to comply with the waste characterization requirements of § 194.22(c)(4) (Condition 3 of Appendix A to 40 CFR Part 194). The EPA's approval process for waste generator sites is described in § 194.8 (revised July 2004).

Condition 3 of the WIPP Certification Decision requires EPA to conduct independent inspections at DOE's waste generator/storage sites of their TRU waste characterization capabilities before approving their program and the waste for disposal at the WIPP. EPA's inspection and approval process gives EPA (a) Discretion in establishing technical priorities, (b) the ability to accommodate variation in the site's waste characterization capabilities, and (c) flexibility in scheduling site WC inspections.

As described in Section 194.8(b), EPA's baseline inspections evaluate each WC process component (equipment, procedures, and personnel training/experience) for its adequacy and appropriateness in characterizing TRU waste destined for disposal at WIPP. During an inspection, the site demonstrates its capabilities to characterize TRU waste(s) and its ability to comply with the regulatory limits and tracking requirements under § 194.24. A baseline inspection may describe any limitations on approved waste streams or waste characterization processes [§ 194.8(b)(2)(iii)]. In addition, a baseline inspection approval must specify what subsequent WC program changes or expansion should be reported to EPA [§ 194.8(b)(4)]. The Agency is required to assign Tier 1 (T1) and Tier 2 (T2) to the reportable changes depending on their potential impact on data quality. A T1 designation requires that the site must notify EPA of proposed changes to the approved components of an individual WC process (such as radioassay equipment or personnel), and EPA must also approve the change before it can be implemented. A WC element with a T2 designation allows the site to implement changes to the approved components of individual WC processes (such as visual examination procedures) but requires EPA notification. The Agency may choose to inspect the site to evaluate technical adequacy before approval. EPA inspections conducted to evaluate T1 or T2 changes are follow-up inspections under the authority of § 194.24(h). In addition to the follow-up inspections, if warranted, EPA may opt to conduct continued compliance inspections at TRU waste sites with a baseline approval under the authority of § 194.24(h).

The site inspection and approval process outlined in § 194.8 requires EPA to issue a Federal Register notice proposing the baseline compliance decision, docket the inspection report for public review, and seek public comment on the proposed decision for a period of 45 days. The report must describe the WC processes EPA inspected at the site, as well as their compliance with § 194.24 requirements.

All waste characterization site approvals for WIPP, up until this point, have been applicable only to contact-handled (CH) TRU waste. The aforementioned inspections at INL-CCP and ANL-CCP mark the first two inspections related to RH waste.

EPA previously issued a preliminary approval of DOE's general framework for characterizing RH waste on March 26, 2004 (Docket A-98-49, Item II-B2-21). This approval requires DOE to provide site-specific RH waste characterization plans and characterization procedures for EPA approval prior to implementing them for characterizing RH waste.

III. Proposed Baseline Compliance Decisions

EPA has performed baseline inspections of RH TRU waste characterization activities of INL-CCP (EPA Inspection No. EPA-INL-CCP-RH-06-06-8) and ANL-CCP (EPA Inspection No. EPA-ANL-CCP-RH-09-06-8).

The purpose of EPA's inspections were to verify that the RH waste characterization programs implemented at both INL-CCP and ANL-CCP for characterizing RH TRU, retrievably-stored, debris waste (S5000) are adequate. EPA evaluated whether the RH waste characterized meets the regulatory requirements at 40 CFR 194.24. During these inspections, EPA evaluated the adequacy, implementation, and effectiveness of the waste characterization activities at INL-CCP and ANL-CCP. The Agency's evaluation focused on the individual components—equipment, procedures, and personnel training/experience of the following waste characterization processes: acceptable knowledge (AK), radiological characterization using a dose-to-curie (DTC) procedure, visual examination (VE), and load management. The RH waste characterization programs at INL-CCP and ANL-CCP are based on DOE-provided upper-tier documents.

A. June 2006 INL-CCP RH Inspection Results

At INL, EPA's inspection team identified one finding in the area of VE and six concerns that needed to be addressed by DOE. Two of these concerns were in VE and four in AK. DOE responded to the EPA finding and concerns and the Agency determined the DOE responses were satisfactory. EPA's inspection team determined that INL-CCP's RH WC program activities were technically adequate. (For complete discussion of EPA's findings, concerns, and technical evaluation, see EPA INL CCP RH Inspection Report A-98-42, II-A4-69 in the accompanying EPA Docket.) EPA is proposing to approve CCP's AK, DTC, and VE processes implemented at INL in the configuration observed during a June 2006 inspection and during two subsequent follow-up inspections (July & August), and as described in the inspection report A-98-42, II-A4-69. The proposed approval includes the following:

(1) The AK process for RH retrievably-stored TRU debris in one waste stream, Idaho National Laboratory Waste Stream No. ID-ANLE-S5000, Lots 1 through 20, as defined in CCP-AK-INL-500, Revision 2, June 1, 2006.

(2) The radiological characterization process using dose-to-curie (DTC) and modeling-derived scaling factors for assigning radionuclide values to one RH waste stream for which the scaling factors are applicable, as described in CCP-AK-INL-501, Revision 1.

(3) The VE process used for a total of 8 retrievably-stored RH debris waste drums included in three batch data reports—BDR No.'s RHINLVE 6001-03. CCP has terminated the use of VE process for this waste until further notice. If CCP decides to use VE in the future EPA inspection and approval is necessary.

Any changes to the WC activities from the date of the baseline inspection must be reported to and, if applicable, approved by EPA, according to Table 1 below.

Table 1.—Tiering of RH TRU WC Processes Implemented by INL-CCP
[For details see EPA's INL-CCP RH inspection report in EPA Docket No.: A-98-49, II-A4-69]
RH WC process elements | INL-CCP RH WC process—T1 changes | INL-CCP RH WC process—T2 changes*
Acceptable Knowledge (AK) | Any new waste streams not approved under this baseline. Load management for any RH waste stream Substantive modification(s)*** that have the potential to affect the characterization process to the following documents: CCP-AK-INL-500, Revision 2; CCP-AK-INL-501, Revision 1; or CCP-AK-INL-502, Revision 0 Addition of K Cell or other debris wastes to ID-ANLE-S5000 | Changes to AK documentation as a result of WCPIP revisions.** AK accuracy report for Lot 16 (or the appropriate Lot) wherein individual drum data assessed by INL (e.g., P030) will be compared against DTC-derived values; all other AK Accuracy reports prepared annually at a minimum. Waste stream data package for debris waste stream once completed, and any modifications to the WSPF including the CRR and AK Summary. Completed Correlation or Surrogate Summary Form of RH containers identified in this waste stream identified as CH based upon measured dose rates that present NDA results for assayed containers, including isotopic ratios. Updates to CCP-INL-AK-500, 501 and 502 made available when each update is approved.
Radiological Characterization, including Dose-To-Curie (DTC) | Use of any alternate radiological characterization procedure other than DTC with established scaling factors as documented in CCP-TP-504, Revision 3, or substantive modification of the DTC procedure.*** Application of new scaling factors for isotopic determination other than those documented in CCP-AK-INL-501, Revision 0 Any new waste stream not approved under this baseline or addition of containers to waste stream ID-ANLE-S5000 that require a change to the established radionuclide scaling factors | Revisions of CCP-AK-INL-501or CCP-TP-504 that require CBFO approval.**
Visual Examination (VE) | Implementation of VE following this Baseline approval is a T1 change. If CCP decides to use VE in the future EPA approval is necessary | None.
Real Time Radiography (RTR) | Any use of RTR requires EPA approval. | None.
WIPP Waste Information System (WWIS) | Any use of WWIS requires EPA approval prior to RH waste disposal | None.
* Upon receiving EPA approval, INL-CCP will report all T2 changes to EPA every three months.
** Excluding changes that are editorial in nature or are required to address administrative concerns.
*** Substantive modification refers to a change with the potential to affect INL's RH WC process, e.g., the use of an inherently different type of measurement instrument or the use of the high range probe as described in CCP-TP-504.

EPA will notify the public of the results of its evaluations of proposed T1 and T2 changes through the WIPP Web site and by forwarding e-mails to the WIPP-NEWS list. All T1 changes must be submitted for approval before their implementation and will be evaluated by EPA. Upon approval, EPA will post the results of the evaluations through the WIPP Web site and the WIPP-NEWS list, as described above. EPA will post T2 changes approximately every three months beginning with the date of EPA's approval of the TRU WC program implemented at INL-CCP. EPA expects the first report of INL-CCP's T2 changes approximately three months from date of EPA's approval of the TRU WC program implemented at INL-CCP.

In this notice, EPA is not proposing to approve WIPP Waste Information System (WWIS) for tracking of waste contents of RH debris wastes. Although the WWIS is currently approved by EPA for tracking CH waste, this system has not been demonstrated by DOE for the Agency for tracking RH waste. Therefore, in accordance with 194.8(b)(2)(iii), EPA is placing a limitation on this proposed baseline that requires DOE to provide WWIS information as a T1 change. EPA will review the WWIS database populated with actual RH waste content data when the RH modules have been completed. EPA may conduct the evaluation of the WWIS during this comment period; however, no final decision or approval of the WWIS will be made until a baseline approval is finalized. No RH waste can be shipped to WIPP for disposal until EPA approves the WWIS database through the T1 process. Similarly, if INL-CCP intends to use an RTR unit to evaluate RH drum contents, EPA will also evaluate this process as a T1 change. Although EPA may evaluate INL-CCP's RTR prior to a baseline approval, no decision or approval regarding RTR will be made until a baseline approval is finalized.

B. September 2006 ANL-CCP RH Inspection Results

At ANL, EPA's inspection team identified three concerns; two in VE and one in AK. DOE responded to the EPA concerns and the Agency determined that the DOE responses were satisfactory. EPA's inspection team determined that ANL-CCP's RH WC program activities were technically adequate. (For a complete discussion of EPA's findings, concerns, and technical evaluation, see EPA ANL CCP RH Inspection Report A-98-42, II-A4-70 in the accompanying EPA Docket.) EPA is proposing to approve CCP's AK, DTC, and VE processes implemented at ANL in the configuration observed during the September 2006 inspection and as described in the inspection report A-98-49, II-A4-70. The proposed approval includes the following:

(1) The AK process for RH retrievably-stored TRU debris in one waste stream, Waste Stream AERHDM, as defined in CCP-AK-ANLE-501, Revision 0, July 21, 2006.

(2) The radiological characterization process using DTC and modeling-derived scaling factors for assigning radionuclide values to one RH waste stream for which the scaling factors are applicable, as described in CCP-AK-ANL-501, Revision 1.

(3) The VE process for retrievably-stored RH debris waste.

Any changes to the WC activities from the date of the baseline inspection must be reported to and, if applicable, approved by EPA, according to Table 2 (as seen below).

Table 2.—Tiering of RH TRU WC Processes Implemented by ANL-CCP
[For details see EPA's ANL-CCP RH inspection report in EPA Docket No: A-98-49, II-A4-70]
RH WC process elements | ANL-CCP RH WC process—T1 changes | ANL-CCP RH WC process—T2 changes*
Acceptable Knowledge (AK) | Any new waste streams not approved under this baseline Load management for any RH waste stream. Substantive modification(s)*** that have the potential to affect the characterization process to the following documents: CP-AK-ANLE-500, Revision 1; CCP-AK-ANLE-501, Revision 0; or CCP-AK-ANLE-502, Revision 0. Modification of the approved waste stream AERHDM to include additional containers beyond the approximately 45 included in CCP-AK-ANLE-500, Revision 3. | Changes made to AK documentation as a result of WCPIP revisions.** AK accuracy reports, prepared annually at a minimum. Waste stream data package for debris waste stream once completed, and any modifications to that WSPF including the CRR and AK Summary. Comparison of AK versus DTC-derived radiological data to support the use of waste stream-specific instead of drum-specific radiological data and the completed DTC results for all containers in this waste stream. Updates to documents as follows: • CCP-AK-ANLE-500 and CCP-AK-ANLE-502 to address freeze file changes. • All future revisions of CCP-ANLE-AK-500, CCP-ANLE-AK-501 and CCP-ANLE-AK-502. • Listing of the references that document the assembly of fuel pin data and review process.
Radiological Characterization, including Dose-To-Curie (DTC) | Use of any alternate radiological characterization procedure other than DTC with established scaling factors as documented in CCP-TP-504, Revision 3, or substantive modification*** of the DTC procedure Application of new scaling factors for isotopic determination other than those documented in CCP-AK-ANLE-501, Revision 0 Any new waste stream not approved under this baseline or addition of containers to waste stream AERHDM that require changing the established radionuclide scaling factors | Revisions of CCP-AK-ANLE-501 or CCP-TP-504 that require CBFO approval.**
Visual Examination (VE) | VE by reviewing existing audio/visual recordings for S4000 and S3000 wastes VE by any process other than review of existing audio/visual recordings for S5000 debris wastes. | Changes made to any VE procedure(s) that require CBFO approval. Addition of new S5000 debris waste streams.
Real Time Radiography (RTR) | Any use of RTR requires EPA approval | None.
WIPP Waste Information System (WWIS) | Any use of WWIS requires EPA approval prior to RH waste disposal | None.
* Upon receiving EPA approval, ANL-CCP will report all T2 changes to EPA every three months.
** Excluding changes that are editorial in nature or are required to address administrative concerns. New references that are included as part of the document revision may be requested by EPA.
*** Substantive modification refers to a change with the potential to affect ANL's RH WC process,e.g., the use of an inherently different type of measurement instrument or the use of the high range probe as described for CCP-TP-504.

EPA will notify the public of the results of its evaluations of proposed T1 and T2 changes through the WIPP Web site and by forwarding e-mails to the WIPP-NEWS list. All T1 changes must be submitted for approval before their implementation and will be evaluated by EPA. Upon approval, EPA will post the results of the evaluations through the WIPP Web site and the WIPP-NEWS list, as described above. EPA will post T2 changes approximately every three months beginning with the date of EPA's approval of the TRU WC program implemented at ANL-CCP. EPA expects the first report of ANL-CCP's T2 changes approximately three months from date of EPA's approval of the TRU WC program implemented at ANL-CCP.

In this notice, EPA is not proposing to approve WIPP Waste Information System (WWIS) for tracking of waste contents of RH debris wastes. Although the WWIS is currently approved by EPA for CH waste, the system has not yet been demonstrated by DOE for the Agency for tracking RH waste. Therefore, in accordance with 194.8(b)(2)(iii), EPA is placing a limitation on this proposed baseline that requires DOE to provide WWIS information as a T1 change. EPA will review the WWIS database populated with actual RH waste content data when the RH modules have been completed. EPA may conduct the evaluation of the WWIS during this comment period; however, no final decision or approval of the WWIS will be made until a baseline approval is finalized. No RH waste can be shipped to WIPP for disposal until EPA approves the WWIS database through the T1 process. In the future, if ANL-CCP intends to use an RTR unit to evaluate RH drum contents, EPA will evaluate this process as a T1 change.

IV. Availability of the Baseline Inspection Report for Public Comment

EPA has placed both reports discussing the results of EPA's inspections of INL-CCP and ANL-CCP in the public docket as described in ADDRESSES. In accordance with 40 CFR 194.8, EPA is providing the public 45 days to comment on these documents. The Agency requests comments on the proposed approval decisions and tiering designations, as described in EPA's inspection reports. EPA will accept public comment on this notice and supplemental information as described in Section 1.B. above. EPA will not make a determination of compliance before the 45-day comment period ends. At the end of the public comment period, EPA will evaluate all relevant public comments and revise the inspection reports as necessary. If appropriate, the Agency will then issue approval letters and final inspection reports, both of which will be posted on the WIPP Web site. DOE must obtain EPA approval of the WWIS, through the T1 change system prior to the disposal of RH waste at WIPP.

Information on the certification decision is filed in the official EPA Air Docket, Docket No. A-93-02 and is available for review in Washington, DC, and at the three EPA WIPP informational docket locations in New Mexico (as listed in ADDRESSES). The dockets in New Mexico contain only major items from the official Air Docket in Washington, DC, plus those documents added to the official Air Docket since the October 1992 enactment of the WIPP LWA.

Dated: October 31, 2006.
Elizabeth Cotsworth,
Director, Office of Radiation and Indoor Air.

[FR Doc. E6-18847 Filed 11-7-06; 8:45 am]

BILLING CODE 6560-50-P